DEFENSE NUCLEAR FACILITIES SAFETY BOARD

Sunshine Act Meetings

TIME AND DATE: 10:00 a.m.-1:00 p.m., January 16, 2019; 1:00 p.m.-4:00 p.m., February 7, 2019; 1:00 p.m.-4:00 p.m., February 14, 2019; 9:00 a.m.-12:00 p.m. March 21, 2019.

PLACE: Defense Nuclear Facilities Safety Board, 625 Indiana Avenue NW, Washington, DC 20004. The open meetings will take place in Room 7019, and the closed meeting will take place in the Boardroom.

STATUS: Open and Closed.

MATTERS TO BE CONSIDERED:

January 16, 2019, 10:00 a.m.-1:00 p.m., Open Meeting

The implicit and explicit recommendations captured in the National Academy of Public Administration's Defense Nuclear Facilities Safety Board Organizational Assessment and recent Inspector General recommendations concerning the effectiveness of the Defense Nuclear Facilities Safety Board. The Organizational Assessment and other related documents are available on the Board's public website at www.dnfsb.gov.

February 7, 2019, 1:00 p.m.-4:00 p.m., Closed Meeting

Board Members will discuss issues dealing with potential Recommendations to the Secretary of Energy. The Board is invoking the exemptions to close a meeting described in 5 U.S.C. 552b(c)(3) and (9)(B) and 10 CFR 1704.4(c) and (h). The Board has determined that it is necessary to close the meeting since conducting an open meeting is likely to disclose matters that are specifically exempted from disclosure by statute, and/or be likely to significantly frustrate implementation of a proposed agency action. In this case, the deliberations will pertain to potential Board Recommendations which, under 42 U.S.C. 2286d(b) and (h)(3), may not be made publicly available until after they have been received by the Secretary of Energy or the President, respectively.

February 14, 2019, 1:00 p.m.-4:00 p.m., Open Meeting

The implicit and explicit recommendations captured in the National Academy of Public Administration's Defense Nuclear Facilities Safety Board Organizational Assessment and recent Inspector General recommendations concerning the effectiveness of the Defense Nuclear Facilities Safety Board. The Organizational Assessment and other related documents are available on the Board's public website at www.dnfsb.gov.

March 21, 2019, 9:00 a.m.-12:00 p.m., Open Meeting

The implicit and explicit recommendations captured in the National Academy of Public Administration's Defense Nuclear Facilities Safety Board Organizational Assessment and recent Inspector General recommendations concerning the effectiveness of the Defense Nuclear Facilities Safety Board. The Organizational Assessment and other related documents are available on the Board's public website at www.dnfsb.gov.

CONTACT PERSON FOR MORE INFORMATION: Glenn Sklar, General Manager, Defense Nuclear Facilities Safety Board, 625 Indiana Avenue NW, Suite 700, Washington, DC 20004-2901, (800) 788-4016. This is a toll-free number.

Dated: January 29, 2019.
Bruce Hamilton,
Chairman.

[FR Doc. 2019-00806 Filed 1-29-19; 4:15 pm]

BILLING CODE 3670-01-P